ENVIRONMENTAL PROTECTION AGENCY

[FRL 11153-01-OLEM]

Access to Confidential Business Information by Industrial Economic, Inc.

AGENCY: Environmental Protection Agency (EPA).

ACTION: Notice of access to data and request for comments.

SUMMARY: EPA will authorize its contractor, Industrial Economics, Inc. (IEc) to access Confidential Business Information (CBI) which has been submitted to EPA under the authority of all sections of the Resource Conservation and Recovery Act (RCRA) of 1976, as amended. EPA has issued regulations that outline business confidentiality provisions for the Agency and require all EPA Offices that receive information designated by the submitter as CBI to abide by these provisions.

DATES: Access to confidential data submitted to EPA will occur no sooner than July 28, 2023.

FOR FURTHER INFORMATION CONTACT: LaShan Haynes, Document Control Officer, Office of Resource Conservation and Recovery, (5305T), U.S. Environmental Protection Agency, 1200 Pennsylvania Avenue NW, Washington, DC 20460, 202-566-0186.

SUPPLEMENTARY INFORMATION:

1. Access to Confidential Business Information

Under EPA Contract 68HERC23D0020, IEc will assist EPA's Office of Civil Enforcement and the Crosscutting Policy Staff in conducting financial and economic analyses in civil enforcement actions. Under the contract, IEc, will review tax returns, financial statements, and other financial information that may be claimed as RCRA CBI. This information will be used to advise case teams on the appropriate civil penalty in enforcement actions. This includes, but is not limited to, when a party claims an inability to pay a civil penalty or where there is a complex economic benefit of noncompliance calculation. The contract period is from April 3, 2023, to April 24, 2028. In accordance with the provisions of 40 CFR part 2, subpart B, ORCR has established policies and procedures for handling information collected from industry, under the authority of RCRA, including RCRA CBI Security Manual.

IEc shall protect from unauthorized disclosure all information designated as confidential and shall abide by all RCRA CBI requirements, including procedures outlined in the RCRA CBI Security Manual.

The U.S. Environmental Protection Agency has issued regulations (40 CFR part 2, subpart B) that outline business confidentiality provisions for the Agency and require all EPA Offices that receive information designated by the submitter as CBI to abide by these provisions. Industrial Economics will be authorized to have access to RCRA CBI under the EPA “Contractor Requirements for the Control and Security of RCRA Confidential Business Information Security Manual.”

EPA is issuing this notice to inform all submitters of information under all sections of RCRA that EPA will provide IEc access to the CBI records located in the RCRA Confidential Business Information Center. Access to RCRA CBI under this contract will take place at IEc and EPA Headquarters only. Contractor personnel will be required to sign non-disclosure agreements and will be briefed on appropriate security procedures before they are permitted access to confidential information. If you have questions regarding this action consult the person listed in the FOR FURTHER INFORMATION CONTACT section of this document.

Dated: July 10, 2023.
Carolyn Hoskinson,
Director, Office of Resource Conservation & Recovery.

[FR Doc. 2023-15167 Filed 7-17-23; 8:45 am]

BILLING CODE 6560-50-P